DEPARTMENT OF ENERGY

Federal Energy Regulatory Commission

Combined Notice of Filings

Take notice that the Commission has received the following Natural Gas Pipeline Rate and Refund Report filings:

Filings Instituting Proceedings

Docket Number: PR18-50-000.

Applicants: Columbia Gas of Maryland, Inc.

Description: Tariff filing per 284.123(b),(e)/: CMD SOC Rates effective May 1 2018.

Filed Date: 5/18/18.

Accession Number: 201805185123.

Comments/Protests Due: 5 p.m. ET 6/8/18.

Docket Number: PR18-51-000.

Applicants: Columbia Gas of Ohio, Inc.

Description: Tariff filing per 284.123(b),(e)/: COH Rates effective May 1 2018.

Filed Date: 5/18/18.

Accession Number: 201805185125.

Comments/Protests Due: 5 p.m. ET 6/8/18.

Docket Numbers: RP18-833-000.

Applicants: Elba Express Company, L.L.C.

Description: Compliance filing Annual Cashout True-up 2018.

Filed Date: 5/23/18.

Accession Number: 20180523-5032.

Comments Due: 5 p.m. ET 6/4/18.

Docket Numbers: RP18-834-000.

Applicants: Tallgrass Interstate Gas Transmission, LLC.

Description: Penalty Charge Reconciliation Filing of Tallgrass Interstate Gas Transmission, LLC.

Filed Date: 5/22/18.

Accession Number: 20180522-5306.

Comments Due: 5 p.m. ET 6/4/18.

Docket Numbers: RP18-835-000.

Applicants: Sabal Trail Transmission, LLC.

Description: § 4(d) Rate Filing: Sabal Trail tariff modifications to be effective 6/22/2019.

Filed Date: 5/23/18.

Accession Number: 20180523-5117.

Comments Due: 5 p.m. ET 6/4/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2018.
Nathaniel J. Davis, Sr.,
Deputy Secretary.

[FR Doc. 2018-11685 Filed 5-30-18; 8:45 am]

BILLING CODE 6717-01-P